DEPARTMENT OF TRANSPORTATION

Federal Aviation Administration

14 CFR Part 39

[Docket No. FAA-2007-0115; Directorate Identifier 2007-CE-080-AD]

RIN 2120-AA64

Airworthiness Directives; Reims Aviation S.A. Model F406 Airplanes

AGENCY: Federal Aviation Administration (FAA), Department of Transportation (DOT).

ACTION: Notice of proposed rulemaking (NPRM); rescission.

SUMMARY: We propose to rescind an airworthiness directive (AD) for the products listed above. The existing AD resulted from mandatory continuing airworthiness information (MCAI) originated by an aviation authority of another country to identify and correct an unsafe condition on an aviation product. The MCAI describes the unsafe condition as:

On several occasions, leaks of the landing gear emergency blowdown bottle have been reported. Investigations revealed that the leakage was located on the nut manometer because of a design deficiency in the bottle head.

If left uncorrected, the internal bottle pressure could not be maintained to an adequate level and could result in a malfunction, failing to extend landing gears during emergency situations.

Since issuance of that AD, we have determined that the condition is not unsafe. This proposed action to rescind the AD would allow the public the opportunity to comment on the FAA's determination of the condition being unsafe before it is officially rescinded.

DATES: We must receive comments on this proposed AD by September 14, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD rescission, the regulatory evaluation, any comments received, and other information. The street address for the Docket Office (telephone (800) 647-5527) is in the ADDRESSES section. Comments will be available in the AD docket shortly after receipt.

FOR FURTHER INFORMATION CONTACT: Mike Kiesov, Aerospace Engineer, FAA, Small Airplane Directorate, 901 Locust, Room 301, Kansas City, Missouri 64106; telephone: (816) 329-4144; fax: (816) 329-4090.

SUPPLEMENTARY INFORMATION:

Comments Invited

We invite you to send any written relevant data, views, or arguments about this proposed AD rescission. Send your comments to an address listed under the ADDRESSES section. Include “Docket No. FAA-2007-0115; Directorate Identifier 2007-CE-080-AD” at the beginning of your comments. We specifically invite comments on the overall regulatory, economic, environmental, and energy aspects of this proposed AD rescission. We will consider all comments received by the closing date and may amend this proposed AD rescission because of those comments.

We will post all comments we receive, without change, to http://www.regulations.gov, including any personal information you provide. We will also post a report summarizing each substantive verbal contact we receive about this proposed AD rescission.

Discussion

On December 13, 2007, we issued AD 2007-26-08, Amendment 39-15310 (72 FR 73258, December 27, 2007). That AD required actions intended to address an unsafe condition on the products listed above.

Since we issued AD 2007-26-08, we have reconsidered this AD with respect to the determination of an unsafe condition.

We issued AD 2007-26-08 in consideration of the MCAI from an aviation authority of another country to identify and correct an unsafe condition on an airplane. At that time, we were not aware that there were several Cessna Aircraft Company (Cessna) model airplanes equipped with the same blowdown bottle part number (P/N) 9910154-4.

Before issuing an AD on domestic products, we prepare a risk assessment of the unsafe condition. A risk assessment was done for the Cessna model airplanes. The result of that assessment was not high enough to support AD action since the system is a backup system to the primary landing gear extension system.

Based on this risk assessment, we reevaluated the existing AD against Reims Aviation Model 406 airplanes (AD 2007-28-08) and determined the condition identified in the AD is not an unsafe condition.

FAA's Determination and Requirements of the Proposed AD Rescission

We are proposing this AD rescission because we evaluated all information and determined the condition identified in the existing AD is not unsafe and the AD is not necessary.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses rescinding the determination of an unsafe condition that is likely to exst or develop on products identified in this rulemaking action.

Regulatory Findings

We determined that this proposed AD rescission would not have federalism implications under Executive Order 13132. This proposed AD rescission would not have a substantial direct effect on the States, on the relationship between the national Government and the States, or on the distribution of power and responsibilities among the various levels of government.

For the reasons discussed above, I certify this proposed rescission of a regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD rescission and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by rescinding AD 2007-26-08, Amendment 39-15310 (72 FR 73258, December 27, 2007):

Reims Aviation S.A.: Docket No. FAA-2007-0115; Directorate Identifier 2007-CE-080-AD.

Comments Due Date

(a) We must receive comments by August 31, 2009.

Affected ADs

(b) This AD rescinds AD 2007-26-08.

Applicability

(c) This AD applies to model F406 airplanes, all serial numbers, that are:

(1) Equipped with landing gear emergency blowdown bottle part number (P/N) 9910154-4; and

(2) certificated in any category.

Issued in Kansas City, Missouri, on July 27, 2009.
John Colomy,
Acting Manager, Small Airplane Directorate, Aircraft Certification Service.

[FR Doc. E9-18311 Filed 7-30-09; 8:45 am]

BILLING CODE 4910-13-P